DEPARTMENT OF TRANSPORTATION

Federal Aviation Administration

14 CFR Part 39

[Docket No. FAA-2013-0130; Directorate Identifier 2013-NE-07-AD; Amendment 39-17520; AD 2013-15-04]

RIN 2120-AA64

Airworthiness Directives; Hartzell Propeller, Inc. Propellers

AGENCY: Federal Aviation Administration (FAA), DOT.

ACTION: Final rule.

SUMMARY: We are adopting a new airworthiness directive (AD) for certain Hartzell Propeller, Inc. propeller models HC-(1,D)2(X,V,MV)20-7, HC-(1,D)2(X,V,MV)20-8, and HC-(1,D)3(X,V,MV)20-8. This AD was prompted by failures of the propeller hydraulic bladder diaphragm and resulting engine oil leak. This AD requires replacement of the propeller hydraulic bladder diaphragm. We are issuing this AD to prevent propeller hydraulic bladder diaphragm rupture, loss of engine oil, damage to the engine, and loss of the airplane.

DATES: This AD is effective August 30, 2013.

ADDRESSES: For service information identified in this AD, contact Hartzell Propeller, Inc., 1 Propeller Place, Piqua, OH 45356; phone: 937-778-4397; fax: 937-778-4391; email: techsupport@hartzellprop.com. You may view this service information at the FAA, 12 New England Executive Park, Burlington, MA. For information on the availability of this material at the FAA, call 781-238-7125.

The Docket Operations office is located at Docket Management Facility, U.S. Department of Transportation, Docket Operations, M-30, West Building Ground Floor, Room W12-140, 1200 New Jersey Avenue SE., Washington, DC 20590.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) provided in the ADDRESSES section. Comments will be available in the AD docket shortly after receipt.

FOR FURTHER INFORMATION CONTACT: Mark Grace, Aerospace Engineer, Chicago Aircraft Certification Office, FAA, Propulsion Branch, 2300 E. Devon Avenue, Des Planes, IL 60018; phone: 847-294-7377; fax: 847-294-7834; email: mark.grace@faa.gov.

SUPPLEMENTARY INFORMATION:

Discussion

We issued a notice of proposed rulemaking (NPRM) to amend 14 CFR part 39 to include an AD that would apply to the specified products. The NPRM published in the Federal Register on March 26, 2013 (78 FR 18255). The NPRM proposed to require replacement of the propeller hydraulic bladder diaphragm with a redesigned bladder diaphragm that includes a tab, visible after installation, which contains the bladder diaphragm batch/lot number.

Comments

We gave the public the opportunity to participate in developing this AD. We have considered the comment received. Hartzell Propeller, Inc. supports the NPRM (78 FR 18255, dated March 26, 2013).

Conclusion

We reviewed the relevant data, considered the comments received, and determined that air safety and the public interest require adopting this AD as proposed.

Costs of Compliance

We estimate that this AD will affect about 400 propellers installed on airplanes of U.S. registry. We also estimate that it will take about 4 hours per propeller to replace the bladder diaphragm. The average labor rate is $85 per hour. We estimate parts costs at $53 per engine. Based on these figures, we estimate the cost of this AD on U.S. operators to be $157,200. Our cost estimate is exclusive of possible warranty coverage.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-15-04 Hartzell Propeller, Inc.: Amendment 39-17520; Docket No. FAA-2013-0130; Directorate Identifier 2013-NE-07-AD.

(a) Effective Date

This AD is effective August 30, 2013.

(b) Affected ADs

None.

(c) Applicability

This AD applies to Hartzell Propeller, Inc. propeller models HC-(1,D)2(X,V,MV)20-7, HC-(1,D)2(X,V,MV)20-8, and HC-(1,D)3(X,V,MV)20-8 with a propeller hydraulic bladder diaphragm, part number (P/N) B-119-2, without tab, installed.

(d) Unsafe Condition

This AD was prompted by failures of the propeller hydraulic bladder diaphragm and resulting engine oil leak. We are issuing this AD to prevent propeller hydraulic bladder diaphragm rupture, loss of engine oil, damage to the engine, and loss of the airplane.

(e) Compliance

Comply with this AD within the compliance times specified, unless already done.

(f) Bladder Diaphragm Replacement

(1) Within 12 months after the effective date of this AD, remove from service the propeller hydraulic bladder diaphragm, P/N B-119-2, without tab.

(2) Install a redesigned propeller hydraulic bladder diaphragm, P/N B-119-2, with tab. The bladder diaphragm, eligible for installation, is identified by a tab with a batch/lot number. The tab is visible after installation and confirms the installation of the proper redesigned propeller hydraulic bladder diaphragm, P/N B-119-2, with tab, in the Hartzell propeller assembly.

(g) Installation Prohibition

After the effective date of this AD, do not install into any engine any hydraulic bladder diaphragm, P/N B-119-2, that is without tab.

(h) Alternative Methods of Compliance (AMOCs)

The Manager, Chicago Aircraft Certification Office, FAA, may approve AMOCs for this AD. Use the procedures found in 14 CFR 39.19 to make your request.

(i) Related Information

(1) For more information about this AD, contact Mark Grace, Aerospace Engineer, Chicago Aircraft Certification Office, FAA, Propulsion Branch, 2300 E. Devon Avenue, Des Planes, IL 60018; phone: 847-294-7377; fax: 847-294-7834; email: mark.grace@faa.gov.

(2) Refer to Hartzell Alert Service Bulletin No. HC-ASB-61-338 for related information.

(3) For service information identified in this AD, contact Hartzell Propeller Inc., 1 Propeller Place, Piqua, OH 45356-2634; phone: 937-778-4379; fax: 937-778-4391; email: techsupport@hartzellprop.com. You may view this service information at the FAA, 12 New England Executive Park, Burlington, MA. For information on the availability of this material at the FAA, call 781-238-7125.

(j) Material Incorporated by Reference

None.

Issued in Burlington, Massachusetts, on July 16, 2013.
Colleen M. D'Alessandro,
Assistant Manager, Engine & Propeller Directorate, Aircraft Certification Service.

[FR Doc. 2013-17664 Filed 7-25-13; 8:45 am]

BILLING CODE 4910-13-P